DEPARTMENT OF TRANSPORTATION

Federal Highway Administration

Environmental Impact Statement: Montgomery County, PA

AGENCY: Federal Highway Administration (FHWA), DOT.

ACTION: Notice of intent.

SUMMARY: The FHWA is issuing this notice to advise the public that an Environmental Impact Statement will be prepared for a proposed highway project in Montgomery County, Pennsylvania.

FOR FURTHER INFORMATION CONTACT: James A. Cheatham, Division Administrator, Federal Highway Administration, Pennsylvania Division Office, 228 Walnut Street, Room 508, Harrisburg, PA 17101-1720, Telephone (717) 221-3461 OR Andrew L. Warren, District Administrator, Pennsylvania Department of Transportation, District 6-0, 7000 Geerdes Blvd., King of Prussia, PA 19406, (610) 205-6700.

SUPPLEMENTARY INFORMATION: The FHWA, in cooperation with the Pennsylvania Department of Transportation (PennDOT), Montgomery County, Chester County, Upper Marion Township, Norristown Borough, Bridgeport Borough, West Norriton Township, Lower Providence Township, Tredyffrin Township, Schuylkill Township and the Delaware Valley Regional Planning Commission will prepare and Environmental Impact Statement (EIS) to identify and evaluate alternatives for modifications to the US Route 23 corridor in Montgomery County, Pennsylvania. The proposed action would consider improvements in the following study area: north of the Schuylkill River to include Tropper Road (PA 363), Egypt Road and Main Street (Ridge Pike); west to US 422 and including the Valley Forge National Park; south along US 202 and east along US 202 and the Dannehower Bridge.

Included in the overall project will be the identification of a range of alternatives that meet the identified project needs, and supporting environmental documentation and analysis to recommend a selected alternative for implementation. A complete public involvement program is included as part of the project.

Documentation of the need for the project is being prepared. This process will identify the need for roadway improvements through the study area based on local and regional transportation demand, transportation system linkage and continuity, geometric criteria, highway safety, and local and regional community planning.

Alternatives that will be considered may include, but will not be limited to: No Build; Transportation Systems Management (TSM); upgrade existing PA 23 facility; construction on new alignment; upgrade of existing roadway network adjacent to, and supplementing PA 23 corridor traffic; and mass transit infrastructure upgrades and increased service. These alternatives will be the basis for recommendation of alternatives to be carried forward for detailed environmental and engineering studies in the EIS.

Letters describing the proposed action and soliciting comments will be sent to appropriate Federal, State, and local agencies and to private organizations and citizens who express interest in this proposal. Public meetings will be held in the area throughout the study process. Public involvement and agency coordination will be maintained throughout the development of the EIS.

To ensure that the full range of issues related to the proposed action are addressed and all significant issues are identified, comments and suggestions are invited from all interested parties. Comment or questions concerning this proposed action and the EIS should be directed to FHWA or PennDOT at the address provided above.

(Catalog of Federal Domestic Assistance Program Number 20.205, Highway Planning and Construction. The regulations implementing Executive Order 12372 regarding intergovernmental consultation of Federal programs and activities apply to this program.)
Issued on: October 23, 2001.
James A. Cheatham,
FHWA Division Administrator, Harrisburg, PA

[FR Doc. 02-1696 Filed 1-23-02; 8:45 am]

BILLING CODE 4910-22-M